NUCLEAR REGULATORY COMMISSION

Documents Containing Reporting or Recordkeeping Requirements: Office of Management and Budget (OMB) Review

AGENCY: U.S. Nuclear Regulatory Commission (NRC).

ACTION: Notice of OMB review of information collection and solicitation of public comment.

SUMMARY: The NRC has recently submitted to OMB for review the following proposal for the collection of information under the provisions of the Paperwork Reduction Act of 1995 (44 U.S.C. Chapter 35)

1. Type of submission, new, revision, or extension: Revision.

2. The title of the information collection: 10 CFR Part 9, “Public Records.”

3. The form number if applicable: N/A.

4. How often the collection is required: On occasion.

5. Who will be required or asked to report: Submitters of information containing trade secrets or confidential commercial or financial information who have been notified that the NRC has made an initial determination that the information should be disclosed.

6. The estimated number of annual responses: 10.

7. The estimated number of annual respondents: 10.

8. An estimate of the total number of hours needed annually to complete the requirement or request: 100 hours (10 hours per response).

9. An indication of whether Section 3507(d), Pub. L. 104-13 applies: Applicable.

10. Abstract: 10 CFR Part 9 is being revised to provide a submitter of information who has designated that information to be trade secrets or confidential commercial and financial information, the right to be notified prior to the NRC disclosing that information, and given the opportunity to object to the disclosure and to provide a written statement that specifies all grounds why the information is a trade secret or commercial or financial information that is privileged or confidential. Section 9.28(b) would provide that if the submitter objects to the disclosure, he must provide within15 days a written statement that specifies all grounds why the information is a trade secret or commercial or financial information that is privileged or confidential. This provision implements a requirement of Executive Order 12600, Predisclosure Notification Procedures for Confidential Commercial Information (52 FR 23781), issued June 23, 1987.

Submit, by May 28, 2004, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room 0-1-F21, Rockville, MD 20852. The proposed rule indicated in “The title of the information collection” is or has been published in the Federal Register within several days of the publication date of this Federal Register notice. The OMB clearance package and rule are available at the NRC worldwide Web site: http://www.nrc.gov/public-involve/doc-comment/omb/ for 60 days after the signature date of this notice and are also available at the rule forum site, http://ruleforum.llnl.gov.

Comments and questions should be directed to the OMB reviewer by May 28, 2004: OMB Desk Officer, Notice of Information and Regulatory Affairs (3150-0043), NEOB-10202, Office of Management and Budget, Washington, DC 20503.

Comments can also be submitted by telephone at (202) 395-3087.

The NRC Clearance Officer is Brenda Jo. Shelton, 301-415-7233.

Dated at Rockville, Maryland, this 15th day of April, 2004.
For the U.S. Nuclear Regulatory Commission.
Brenda Jo. Shelton,
NRC Clearance Officer, Office of the Chief Information Officer.

[FR Doc. E4-954 Filed 4-27-04; 8:45 a.m.]

BILLING CODE 7590-01-P